DEPARTMENT OF HOMELAND SECURITY

Coast Guard

[Docket No. USCG-2023-0394]

National Offshore Safety Advisory Committee; September 2023 Meetings

AGENCY: Coast Guard, Department of Homeland Security.

ACTION: Notice of federal advisory committee meeting.

SUMMARY: The National Offshore Safety Advisory Committee (Committee) will conduct a series of meetings over 2 days in Katy, Texas to discuss matters relating to activities directly involved with, or in support of, the exploration of offshore mineral and energy resources, to the extent that such matters are within the jurisdiction of the United States Coast Guard. All meetings will be open to the public.

DATES: Meetings: The Subcommittees will meet on Tuesday, September 12, 2023, from 11 a.m. to 3:30 p.m. Central Daylight Time (CDT). These subcommittee meetings will be for 90 minutes each and will start with Occasional Towing, from 11 a.m. until 12:30 p.m. (CDT); followed by the Subchapter N, from 12:30 p.m. until 2 p.m. (CDT); and the SEACOR POWER subcommittee from 2 p.m. until 3:30 p.m. (CDT). The full Committee will meet on September 13, 2023, from 8 a.m. until 5 p.m. (CDT). Please note these meetings may close early if the subcommittees or full Committee have completed their business.

Comments and supporting documents: To ensure your comments are reviewed by Committee members before the meetings, submit your written comments no later than August 28, 2023.

ADDRESSES: The meetings will be held at the Det Norske Veritas (DNV) conference facility located at 1400 Ravello Drive, Katy, Texas 77449. All attendees will be required to register with DNV security upon arrival at the facility.

The National Offshore Safety Advisory Committee is committed to ensuring all participants have equal access regardless of disability status. If you require reasonable accommodations due to a disability to fully participate, please email Mr. Patrick Clark at patrick.w.clark@uscg.mil as soon as possible.

Instructions: You are free to submit comments at any time, including orally at the meeting as time permits, but if you want Committee members to review your comment before the meeting, please submit your comments no later than August 28, 2023. We are particularly interested in comments on the topics in the “Agenda” section below. We encourage you to submit comments through the Federal eRulemaking Portal at https://www.regulations.gov. If your material cannot be submitted using https://www.regulations.gov, email the individual in the FOR FURTHER INFORMATION CONTACT section of this document for alternate instructions. You must include the docket number USCG-2023-0394. Comments received will be posted without alteration at https://www.regulations.gov, including any personal information provided. You may wish to review the Privacy and Security Notice found via a link on the homepage of https://www.regulations.gov. For more about the privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions.

Additionally, if you go to the online docket and sign-up for email alerts, you will be notified when comments are posted.

FOR FURTHER INFORMATION CONTACT: Mr. Patrick W. Clark, Designated Federal Officer of the National Offshore Safety Advisory Committee, 2703 Martin Luther King Jr. Ave. SE, Stop 7509, Washington, DC 20593-7509, telephone 202-372-1358, or patrick.w.clark@uscg.mil.

SUPPLEMENTARY INFORMATION: Notice of this meeting is given pursuant to the Federal Advisory Committee Act, (Pub. L. 117-286, 5 U.S.C., ch. 10). The National Offshore Safety Advisory Committee was established on December 4, 2018, by section 601 of the Frank LoBiondo Coast Guard Authorization Act of 2018 (Pub. L. 115-282, 132 Stat. 4192), and amended by section 8331 of the Elijah E. Cummings Coast Guard Authorization Act of 2022 (Pub. L. 116-283). That authority is codified in 46 U.S.C. 15106. The Committee operates under the provisions of the Federal Advisory Committee Act, and 46 U.S.C. 15109. The Committee provides advice and recommendations to the Secretary of Homeland Security on matters relating to activities directly involved with, or in support of, the exploration of offshore mineral and energy resources, to the extent that such matters are within the jurisdiction of the United States Coast Guard.

Agenda

Tuesday, September 12, 2023

Three subcommittees will meet to discuss the following task statements.

(1) Task Statement 2022-01: Occasional Towing.

(2) Task Statement 2023-02: 33 CFR Subchapter N.

(3) Task Statement 2023-01: SEACOR POWER.

The task statements and other subcommittee information are available on the NOSAC Homeport page at https://homeport.uscg.mil/missions/federal-advisory-committees.national-offshore-safety-advisory-committee-(nosac)/committee-meetings.

Wednesday, September 13, 2023

The agenda for the September 13, 2023 full Committee meeting is as follows:

(1) Call to Order.

(2) Roll call and determination of quorum.

(3) Adoption of previous meeting minutes and agenda.

(4) Opening remarks.

(5) Final Report from the Occasional Towing Subcommittee.

(6) Update from the 33 CFR Subchapter N Subcommittee.

(7) Update from the SEACOR POWER Subcommittee.

(8) New Business.

(9) Public Comment period.

(10) Closing remarks/plans for next meeting.

(11) Adjournment of meeting.

A copy of all meeting documentation will be available on the NOSAC Homeport page at https://homeport.uscg.mil/missions/federal-advisory-committees.national-offshore-safety-advisory-committee-(nosac)/committee-meetings no later than August 29, 2023. Alternatively, you may contact Mr. Patrick Clark as noted in the FOR FURTHER INFORMATION CONTACT section above.

During the September 13, 2023, Committee meeting, a public comment period will be held from approximately 4:30 p.m. to 5 p.m. (CDT). Speakers are requested to limit their comments to 3 minutes. Please note that this public comment period may start before 4:30 p.m. (CDT) if all other agenda items have been covered and may end before 5 p.m. (CDT) if all of those wishing to comment have done so. Please contact the individual listed in the FOR FURTHER INFORMATION CONTACT section to register as a speaker.

Dated: August 9, 2023.
Jeffrey G. Lantz,
Director of Commercial Regulations and Standards.

[FR Doc. 2023-17698 Filed 8-16-23; 8:45 am]

BILLING CODE 9110-04-P